DEPARTMENT OF THE TREASURY

Customs Service

19 CFR PART 12

[T.D. 01-86]

RIN 1515-AC95

Import Restrictions Imposed on Archaeological and Ethnological Materials From Bolivia

AGENCY: Customs Service, Treasury.

ACTION: Final rule.

SUMMARY: This document amends the Customs Regulations to reflect the imposition of import restrictions on certain archaeological and ethnological materials originating in Bolivia. These restrictions are being imposed pursuant to an agreement between the United States and Bolivia that has been entered into under the authority of the Convention on Cultural Property Implementation Act in accordance with the 1970 United Nations Educational, Scientific and Cultural Organization (UNESCO) Convention on the Means of Prohibiting and Preventing the Illicit Import, Export and Transfer of Ownership of Cultural Property. The document amends the Customs Regulations by adding Bolivia to the list of countries for which an agreement has been entered into for imposing import restrictions. The document also contains the “Designated List of Archaeological and Ethnological Material From Bolivia” that describes the types of articles to which the restrictions apply.

EFFECTIVE DATE: December 7, 2001.

FOR FURTHER INFORMATION CONTACT: (Legal Aspects) Joseph Howard, Intellectual Property Rights Branch (202) 927-2336; (Operational Aspects) Al Morawski, Trade Operations (202) 927-0402.

SUPPLEMENTARY INFORMATION:

Background

The value of cultural property, whether archaeological or ethnological in nature, is immeasurable. Such items often constitute the very essence of a society and convey important information concerning a people's origin, history, and traditional setting. The importance and popularity of such items regrettably makes them targets of theft, encourages clandestine looting of archaeological sites, and results in their illegal export and import.

The U.S. shares in the international concern for the need to protect endangered cultural property. The appearance in the U.S. of stolen or illegally exported artifacts from other countries where there has been pillage has, on occasion, strained our foreign and cultural relations. This situation, combined with the concerns of museum, archaeological, and scholarly communities, was recognized by the President and Congress. It became apparent that it was in the national interest for the U.S. to join with other countries to control illegal trafficking of such articles in international commerce.

The U.S. joined international efforts and actively participated in deliberations resulting in the 1970 UNESCO Convention on the Means of Prohibiting and Preventing the Illicit Import, Export and Transfer of Ownership of Cultural Property (823 U.N.T.S. 231 (1972)). U.S. acceptance of the 1970 UNESCO Convention was codified into U.S. law as the “Convention on Cultural Property Implementation Act” (Pub.L. 97-446, 19 U.S.C. 2601 et seq.) (“the Act”). This was done to promote U.S. leadership in achieving greater international cooperation towards preserving cultural treasures that are of importance to the nations from where they originate and to achieving greater international understanding of mankind's common heritage.

During the past several years, import restrictions have been imposed on archaeological and ethnological artifacts of a number of signatory nations. These restrictions have been imposed as a result of requests for protection received from those nations as well as pursuant to bilateral agreements between the United States and other countries. More information on import restrictions can be found on the International Cultural Property Protection Web site (http://exchanges.state.gov/education/culprop).

Import restrictions are now being imposed on certain archaeological and ethnological materials originating in Bolivia as the result of a bilateral agreement entered into between the United States and Bolivia (the Agreement). The Agreement was entered into on December 4, 2001, pursuant to the provisions of 19 U.S.C. 2602. The archaeological materials subject to the Agreement represent pre-Columbian cultures of Bolivia and range in date from approximately 10,000 B.C. to A.D. 1532. The ethnological materials subject to the Agreement are from the Colonial and Republican periods and range in date from A.D. 1533 to 1900.

Accordingly, § 12.104g(a) of the Customs Regulations is being amended to indicate that restrictions have been imposed pursuant to the Agreement between the United States and Bolivia. This document amends the regulations by imposing import restrictions on certain archaeological and ethnological materials from Bolivia as described below.

It is noted that emergency import restrictions on antique ceremonial textiles from Coroma, Bolivia were previously imposed but are no longer in effect.(See T.D. 89-37, published in the Federal Register (54 FR 17529) on March 14, 1989, and T.D. 93-34 published in the Federal Register (58 FR 29348) on May 20, 1993.) The restrictions published in this document are separate and independent from these previously imposed emergency import restrictions. This document removes the reference in the Customs Regulations in § 12.104g(b) to these expired emergency import restrictions.

Material Encompassed in Import Restrictions

In reaching the decision to recommend protection for the cultural patrimony of Bolivia, the Acting Assistant Secretary for Educational and Cultural Affairs of the U. S. State Department determined, pursuant to the requirements of the Act, that the cultural patrimony of Bolivia is in jeopardy from the pillage of archaeological and ethnological materials and this pillage is widespread, on-going, and systematically destroying the non-renewable archaeological and ethnological record of Bolivia.

The archaeological materials which are the subject of the Acting Assistant Secretary's determination represent pre-Columbian cultures of Bolivia, range in date from approximately 10,000 B.C. to A.D. 1532, and include: (1) Objects comprised of textiles, featherwork, ceramics, metals, and lithics (stone); and (2) perishable remains, such as bone, human remains, wood, and basketry that represent cultures including but not limited to the Formative Cultures (such as Wankarani and Chiripa, Tiwanaku, and Inca), Tropical Lowland Cultures, and Aymara Kingdom. The ethnological materials which are the subject of the Acting Assistant Secretary's determination represent the Colonial and Republican periods, range in date from A.D. 1533 to 1900, and include: (1) Objects of indigenous manufacture and ritual, sumptuary, or funeral use related to the pre-Columbian past, which may include masks, wood, musical instruments, textiles, featherwork, and ceramics; and (2) objects used for rituals and religious ceremonies, including Colonial religious art, such as paintings and sculpture, reliquaries, altars, altar objects, and liturgical vestments.

The Acting Assistant Secretary also determined, pursuant to the requirements of the Act, that the archaeological materials covered by the Agreement are of cultural significance because they derive from numerous cultures that developed autonomously in the Andean region and attained a high degree of technological, agricultural, and artistic achievement, but whose underlying political, economic, and religious systems remain poorly understood. Also, the archaeological materials represent a legacy that serves as a source of identity and pride for the modern Bolivian nation. The Acting Assistant Secretary determined that the ethnological materials play an essential and irreplaceable role in indigenous Bolivian communities and are vested with symbolic and historic meaning. They are used in ceremonial and ritualistic practices and frequently serve as marks of identity within the society. Serving as testimony to the continuation of pre-Columbian cultural elements despite European political domination, they form an emblem of national pride in a society that is largely indigenous.

Also, pursuant to the requirements of the Act, the Acting Assistant Secretary determined that Bolivia has taken measures consistent with the Convention to protect its cultural patrimony, and that the application of import restrictions set forth in Section 307 of the Act is consistent with the general interest of the international community in the interchange of cultural property among nations for scientific, cultural, and educational purposes.

Designated List

The bilateral agreement between Bolivia and the United States covers the categories of artifacts described in a “Designated List of Archaeological and Ethnological Material from Bolivia,” which is set forth below. Importation of articles on this list is restricted unless the articles are accompanied by an appropriate export certificate issued by the Government of Bolivia or documentation demonstrating that the articles left the country of origin prior to the effective date of the import restriction.

List of Archaeological and Ethnological Materials From Bolivia

Archaeological Materials

I. Pre-Columbian Ceramics

Ceremonial, sumptuary, and funerary ceramics representing the following principal cultures:

A. Formative Cultures (2000 B.C.-A.D. 400)

Decoration: Ceramics are monochrome in appearance from the use of red, tan, or pale orange slip against a fire-clouded surface; some forms are black and finely polished. Some show use of polychrome slip paints in red, orange, black, and yellow. The surface exterior is polished or burnished. There is some use of applique and incision.

Forms: Plates (ch'illami), open bowls, vases, double-cylinder vases with bridge handles, beakers with vertical handles, pitchers, incense burners, portrait jars, handled funerary jars, boot-shaped jars, tripod-base jars, canoe-shaped bowls, double-spout bottles, effigy jars in the shape of humans, animals and birds, and figurines.

Size: Varies according to form; miniatures average 2 cm. in height while over-sized ch'illamis can average 70 cm. in width/rim diameter.

Identifying features: Formative Period ceramics are plain in appearance but their shapes are distinct. Some are miniature or over-sized (bowls, or ch'illami); asymmetrical or lop-sided (boot-shaped jars); and unconventional (beakers with vertical handles, canoe-shaped vessels, “genie lamp” shape).

Styles: Formative Period style ceramics are distributed throughout Bolivia. These include: Chiripa, Fluke, Kaluyo/Qaluyu, Wankarani, Salar de Uyuni, Urus, Chipayas, Tupuraya, Mojocoya, Pocona, Mizque, Aiquile, Beni, Pando, Santa Cruz regions, and Mojeñas styles. Other terms used include: Quillacollo, Cliza, Llampara, Inquisivi, Navillera, Tapacarí, Capinota, Parotani, Chullpa Pampa, Sacaba, Tiraque, Chullpa Pata, Santa Lucia, Arani, Sierra Mokho, and Sauces.

B. Wankarani (1600 B.C.-A.D. 100)

Decoration: Typically monochrome, slipped vessels in red or black and well-polished. Black stripes against a red surface are also common. Incision, punctate, and applique are used for surface decoration on effigy vessels.

Forms: Plates (ch'illami), open bowls, vases, beakers with vertical handles, pitchers, incense burners, portrait jars, double-spout bottles, funerary urns, ladles, conical vases with circular bases, effigy jars in the shape of humans, animals and birds, and figurines.

Size: Varies according to form.

Identifying features: Plain forms and monochrome surface decoration that is well-polished. Most rim edges show a slight, rounded scallop that often gives the appearance of a misshapen vessel.

Styles: Wankarani ceramics are limited in distribution to northeast of Lake Titicaca and north of Lake Poopo. The term Wankarani is sometimes used broadly to refer to all Formative Period ceramics.

C. Chiripa (1500 B.C.-A.D. 200)

Decoration: Generally red or black slipped surfaces, with cream, yellow, or black painted geometric designs. Effigy vessels and fineware jars are often painted and incised. Yellow-painted, incised, and modeled flat-based jars are distinct.

Forms: Bowls, vases, pitchers, jars, effigy jars, and figurines. Flat-based restricted bowls with small, animal-shaped lug handles are common.

Size: Varies according to form.

Identifying features: Yellow-or cream-painted on red, incised, and modeled flat-based jars and bowls are distinct. The walls of the vessels are thick (5 cm. to 8 cm.) and the rims are thickened. The painted decoration is geometric, rendered in wide strokes.

Style: Linked to the Wankarani and Tiwanaku I styles of the Bolivian highlands.

D. Tiwanaku (A.D. 600-1200)

Decoration: Well-fired (hard), polychrome pottery in black on red or combined black, red, yellow, orange, gray, brown, and white. Design motifs include human and divine representations, pumas, jaguars, birds, and geometric elements. On many beakers, the design is complex. Plastic decoration includes modeling, incision, and applique.

Forms: Bowls, plates, urns, vases, lebrillos, flat-bottomed beakers, incense burners (sahumerios), lamps (mechero), effigy jars, portrait vessels, bottles, flat-bottomed bottles, challadores, and some tripod forms. The rim edges of some beakers are scalloped.

Size: Varies according to form; storage jars are known to be up to one meter in height.

Identifying features: Tiwanaku finewares are typically polychrome and often exhibit complex images of cats, llamas, or personages bearing a staff in each outstretched arm. Beakers and plates often bear an open-mouthed feline or llama adornment along the rim edge. Some decorated jars (lebrillos) are short-bodied with disproportionately large, outflaring rims.

Styles: Tiwanaku I-V, Qalasasaya, Qeya, Yampara, Mollo, Omereque, Uruquilla, Quillacasa, Yura, Tupuraya, Ciaco, Mojocoya, Lakatambo, Colla, and Presto-Puno. Linked to the Wari style of Ayacucho, Peru, and the earlier Chiripa style of Bolivia.

E. Aymara Kingdoms (A.D. 1200-1450)

Decoration: Monochrome and polychrome painted vessels utilizing red, grey, orange, white, black, and reddish-brown for intricate geometric designs.

Forms: Bowl, vase (lebrillo), pitcher, jar, figurine, cup, beaker (kero), portrait vessel, plate, oil lamp (mechero), incense burner (sahumerio), and challador.

Size: Varies according to form.

Identifying features: After the demise of the Tiwanaku empire, local ceramic traditions re-emerged. Design elements such as color and placement on the vessel are retained from Tiwanaku styles, but religious personages and deities are replaced by abstract, geometric designs.

Styles: Mollo, Pacajes, Uruquilla, Yuna, Chaqui, Lupaqa, Karanga, Charcas, Killaqa, Karanka, Kara Kara, Ciaco, Chuyes, Tomatas, Yampará, and Mizque Regional. Also referred to as “Decadent Tiwanaku.”

F. Inca (A.D. 1450-1533)

Decoration: Monochrome and polychrome painted vessels utilizing red, grey, orange, white, black, and reddish-brown for intricate geometric designs arranged in bands.

Forms: Cook pot, bowl, vase (lebrillo), pitcher, jar (aríbalo), figurine, cup, kero (beaker), portrait vessel, plate, oil lamp (mechero), incense burner (sahumerio), funerary urn, bottle (angara), challador, storage vessel.

Size: Varies according to form; funerary urns and storage vessels can average one meter in height.

Identifying features: The most recognizable form of these ceramics is the flat-based beaker or kero. These average about 10 cm. in height and are painted with complex geometric and naturalistic designs in polychrome colors, often adorned at or near the rim by a modeled puma, llama, or jaguar head. Keros are often decorated in the style called Tocapu, an Inca design consisting of horizontally and vertically arranged squares with abstract and geometric motifs in each square.

Styles: Inca, Yampará, Lakatambo, Colla, Yura, and Pacajes.

G. Tropical Lowland Cultures (1400 B.C.-A.D. 1533):

Decoration: Often plain slipped in colors of red, tan, cream, orange, black, and yellow with bands of geometric designs.

Forms: Bowls, vases, pitchers, jars, funerary urn, plate, oil lamp, and challador.

Size: Varies according to form; some funerary urns are over one meter in height.

Identifying features: Soft pastes containing organic inclusions.

Styles: Casarabe, Mamoré, San Juán, Palmar, Vanegas, and Chané.

H. Ceramic Musical Instruments (Formative Cultures—Inca, including Tropical Lowland Cultures)

Decoration/Form: Ceramic musical instruments include whistles, flutes, rattles, and panpipes. Often plain slipped in colors of red, tan, cream, orange, black, and yellow or painted with intricate polychrome designs.

Size: Panpipes range between 20 cm. and 120 cm.; whistles and rattles are typically hand size; flutes range from 20 cm. to 120 cm.

Styles and distribution: Whistle/flute (ocarina or silbato); Rattle (sonajera); Flute/panpipe (zampoña). Distributed throughout all parts of Bolivia.

II. Pre-Columbian Textiles

Ceremonial, sumptuary, and funerary textiles representing the following principal cultures:

A. Tiwanaku

1. Shawl/mantle (awayo, ahuayo, lliclla, llacota): Square or rectangular garment composed of two pieces of cloth sewn together. Woven from cotton and/or camelid fibers and dyed with natural pigments in red, blue, green, orange, yellow, tan, brown, black, purple, or a combination of colors. Fabric designs include: (1) Stripes arranged across the cloth in a vertical or horizontal pattern; (2) repetitive arrangements of llamas or other animal motifs; (3) patterns created from tie-dye, checkerboards, and repetitive squares or cloth patchwork. Average size is one square meter.

2. Tunic (unku, ccahua): Man's ceremonial vestment constructed from one piece of cloth which is folded in half and sewn up the sides, leaving openings for the arms at the top and an opening in the middle for the head. Woven from cotton and/or camelid fibers, often in tapestry weave, and dyed with natural pigments in red, blue, green, orange, yellow, tan, brown, black, purple, or a combination of colors. Designs are typically found in the hip, sleeve, and neck areas but there are more elaborate examples where designs cover the entire garment: (1) Stripes arranged across the cloth in a vertical or horizontal pattern; (2) repetitive arrangements of llamas or other animal motifs; (3) patterns created from tie-dye, checkerboards, repetitive squares or cloth patchwork. Average size is 135 cm. x 92 cm.

3. Belts and bag belts (chumpi, wak'a): Worn by both men and women, woven from cotton or camelid fibers in a variety of widths, lengths, and colors. Found in either a solid color or simple polychrome geometricized design. Bag belts are long rectangular sashes comprised of one piece of cloth folded length-wise that contain an opening in the top and are secured to the waist by braided straps.

4. Hat, headband: Includes polychrome caps, four-cornered hats with tassels (gorro), headbands, and small cloths sometimes used as head-coverings by women (icuña) which were either woven or knotted and dyed with natural pigments in red, blue, green, orange, yellow, tan, brown, black, purple, or a combination of colors. When present, designs are geometric or depict highly stylized animals, such as llamas and other camelids.

5. Bag/pouch (ch'uspa, huallquepo): Carried by both men and women; woven from cotton or camelid fibers in a variety of widths, lengths and colors. Found in either a solid color or simple polychrome stripe pattern arrangement with geometric motifs. These bags are usually square (20 cm.) or rectangular with a woven carrying strap. They often contain small pockets on the pouch exterior and are decorated with tassels.

6. Cloth: Square, rectangular, or fragmentary cloth woven from cotton or camelid fibers, or constructed from soft tree bark or other natural fiber, and dyed with natural pigments in red, blue, green, orange, yellow, tan, brown, black, purple, or a combination of colors. Some examples are striped in a vertical or horizontal pattern. Tapestry wall-hangings often exhibit complex geometric or animal designs arranged in repetitive patterns. Average size ranges between six square centimeters and six square meters. Cloth may be fragmentary, folded flat, or bundled (q'epi) for use in ritual ceremonies. Women's ritual cloth, called icuña or tari, is also included in this category.

7. Featherwork: Colorful, tropical feathers attached to leather, cloth, wood, or other material, such as basketry, to create adornments worn on the wrists, ankles, neck, waist, back, and head, including the lips and ears. Most typically found are headdresses, which may consist of small crowns (30 cm. average) or large, towering bonnets of feathers (80 cm.). This category also includes feather-covered ritual belts and textiles (35-70 cm.), fans (250 cm. long), staves or batons (145-250 cm.), basketry supports, and healer's amulets or photadi (80-250 cm.).

B. Aymara Kingdom

1. Shawl/mantle (awayo, ahuayo, lliclla, llacota, iscayo): Square or rectangular garment composed of two pieces of cloth sewn together. Woven from cotton or camelid fibers and dyed with natural pigments in red, blue, green, orange, yellow, tan, brown, black, purple, or a combination of colors. Designs are typically stripes arranged across the cloth in a vertical or horizontal pattern or along the margins of the garment. Average size is one square meter.

2. Tunic (unku, ccahua): Man's ceremonial vestment constructed from one piece of cloth which is folded in half and sewn up the sides, leaving openings for the arms at the top and an opening in the middle for the head. Woven from cotton or camelid fibers and dyed with natural pigments in red, blue, green, orange, yellow, tan, brown, black, purple, or a combination of colors. Designs are typically found in the hip, sleeve, and neck areas, but there are examples of more elaborate designs which cover the entire garment; plain vertical stripe designs across the garment are also known. Average size is 135 cm. x 92 cm.

3. Dress (aksu/urku): Woman's ceremonial vestment woven from camelid fiber constructed from one piece of cloth that is wrapped around the body. These are dyed with natural pigments in red, blue, green, orange, yellow, tan, brown, black, purple, or a combination of colors. The vestments are plain or striped. Average length is 1.5 meters.

4. Belts and bag belts (chumpi, wak'a): Worn by both men and women; woven from cotton or camelid fibers in a variety of widths, lengths, and colors. Found in either a solid color or simple polychrome geometricized design. Bag belts are long rectangular sashes comprised of one piece of cloth folded length-wise that contain an opening in the top and are secured to the waist by braided straps.

5. Hat (chucu) or headband: The Aymara chucu is a conical shaped cap that is attached to the head with a headband. These were woven from camelid fibers and dyed with natural pigments in red, blue, green, orange, yellow, tan, brown, black, purple, or a combination of colors. When present, designs are geometric or depict highly stylized animals, such as llamas and other camelids.

6. Bag/pouch (ch'uspa, huallquepo, istalla): Carried by both men and women, woven from cotton or camelid fibers in a variety of widths, lengths, and colors. Found in either a solid color or simple polychrome stripe pattern arrangement with geometric motifs. These bags are usually square (20 cm.) or rectangular with a woven carrying strap. They often contain small pockets on the pouch exterior and are decorated with tassels.

7. Cloth: Square, rectangular, or fragmentary cloth woven from cotton or camelid fibers, or constructed from soft tree bark or other natural fiber, and dyed with natural pigments in red, blue, green, orange, yellow, tan, brown, black, purple, or a combination of colors. Some examples are striped in a vertical or horizontal pattern. Average size ranges between six square centimeters and six square meters. Cloth may be fragmentary, folded flat, or bundled (q'epi) for use in ritual ceremonies. Woman's ritual cloth, called icuña or tari, is also included in this category.

8. Featherwork: Consists of colorful, tropical feathers attached to leather, cloth, wood, or other material, such as basketry, to create adornments worn on the wrists, ankles, neck, waist, back, and head, including the lips and ears. Most typically found are head dresses, which may consist of small crowns (30 cm. average) or large, towering bonnets of feathers (80 cm.). This category also includes feather-covered ritual belts and textiles (35-70 cm.), fans (250 cm. long), staves or batons (145-250 cm.), basketry supports, and healer's amulets or photadi (80-250 cm.).

C. Inca

1. Shawl/mantle (awayo, ahuayo, lliclla, llacota, iscayo): Square or rectangular garment composed of two pieces of cloth sewn together. Woven from cotton or camelid fibers and dyed with natural pigments in red, blue, green, orange, yellow, tan, brown, black, purple, or a combination of colors. Designs are typically stripes arranged across the cloth in a vertical or horizontal pattern or along the margins of the garment. Average size is one square meter.

2. Tunic (unku, ccahua): Man's ceremonial vestment constructed from one piece of cloth which is folded in half and sewn up the sides, leaving openings for the arms at the top and an opening in the middle for the head. Woven from cotton and/or camelid fibers, often in tapestry weave, and dyed with natural pigments in red, blue, green, orange, yellow, tan, brown, black, purple, or a combination of colors. Designs are typically found in the hip, sleeve, and neck areas, but there are more elaborate examples where designs cover the entire garment: (1) Stripes arranged across the cloth in a vertical or horizontal pattern; (2) repetitive arrangements of llamas or other animal motifs; (3) patterns created from tie-dye, checkerboards, and repetitive squares or cloth patchwork. Tunics are often decorated in the style called Tocapu, an Inca design consisting of horizontally and vertically arranged squares with abstract and geometric motifs in each square. Average size is 135 cm. x 92 cm.

3. Dress (aksu/urku): Woman's ceremonial dress woven from camelid fiber and constructed from a rectangular, two-piece cloth that is wrapped around the body and tied at the waist. These are dyed with natural pigments in red, blue, green, orange, yellow, tan, brown, black, purple, or a combination of colors. The vestments are normally plain or striped, but during the Inca Period, many were made from cumbi (see Inca cloth) and decorated in striped patterns (usually horizontal) of geometric motifs. Average length is 1.5 meters.

4. Belts and bag belts (chumpi, wak'a): Worn by both men and women, woven from cotton or camelid fibers in a variety of widths, lengths, and colors. Found in either a solid color or simple polychrome geometricized design. Bag belts are long rectangular sashes comprised of one piece of cloth folded length-wise that contain an opening in the top and are secured to the waist by braided straps.

5. Hat (chuc, ñañaca) or headband: The chucu is a conical shaped cap that is attached to the head with a headband. These were woven from camelid fibers and dyed with natural pigments in red, blue, green, orange, yellow, tan, brown, black, purple, or a combination of colors. When present, designs are geometric or depict highly stylized animals, such as llamas and other camelids. Ñañacas are head coverings worn by women that range in size between 10 square cm. and one square meter.

6. Bag/pouch (ch'uspa, huallquepo, istalla): Carried by both men and women; woven from cotton or camelid fibers in a variety of widths, lengths, and colors. Found in either a solid color or simple polychrome stripe pattern arrangement with geometric motifs. These bags are usually square (20 cm.) or rectangular with a woven carrying strap. They often contain small pockets on the pouch exterior and are decorated with tassels.

7. Cloth and cumbi: Square, rectangular, or fragmentary cloth woven from fine cotton and/or camelid fibers, or constructed from soft tree bark or other natural fiber, and dyed with natural pigments in red, blue, green, orange, yellow, tan, brown, black, purple, or a combination of colors. Some examples are striped in a vertical or horizontal pattern. Average size ranges between six square centimeters and six square meters. Cloth may be fragmentary, folded flat, or bundled (q'epi) for use in ritual ceremonies. Woman's ritual cloth, called icuña, tari, or ñañaca, is also included in this category. Cumbi, or “royal Inca cloth,” refers to a finely woven, soft cloth produced for Inca dignitaries and is analogous to gold in value. Often baby alpaca wool was utilized.

8. Knotted Strings or quipu (k'ipu, khipu): Quipus are knotted string devices used to count and record. They were created from woven cotton and/or camelid fiber twine. They appear as sets of knotted strings in colors, such as tan, cream, brown, or coffee. Quipus range in size from hand-size to 2.5 meters in length.

9. Featherwork: Colorful, tropical feathers attached to leather, cloth, wood, or other material to create adornments worn on the wrists, ankles, neck, waist, back, and head, including the lips and ears. Most typically found are headdresses, which may consist of small crowns (30 cm. average) or large, towering bonnets of feathers (80 cm.). This category also includes feather-covered ritual belts and textiles (35-70 cm.), fans (250 cm. long), staves or batons (145-250 cm.), basketry supports, and healer's amulets or photadi (80-250 cm.).

D. Tropical Lowland Cultures

1. Cloth: Square, rectangular, or fragmentary cloth woven from cotton, or constructed from soft tree bark or other natural fiber, and dyed with natural pigments in red, blue, green, orange, yellow, tan, brown, black, purple, or a combination of colors. Some examples are striped in a vertical or horizontal pattern. Average size ranges between six square centimeters and six square meters. Cloth may be fragmentary, folded flat, or bundled (q'epi) for use in ritual ceremonies.

2. Featherwork: Colorful, tropical feathers attached to leather, cloth, wood, or other material to create adornments worn on the wrists, ankles, neck, waist, back, and head, including the lips and ears. Most typically found are headdresses, which may consist of small, modest crowns (30 cm. average) or large, towering bonnets of feathers (80 cm.). This category also includes feather-covered ritual belts and textiles (35-70 cm.), fans (250 cm. long), staves or batons (145-250 cm.), and healer's amulets or photadi (80-250 cm.).

III. Pre-Columbian Metals

Ceremonial, sumptuary, and funerary metal objects produced and used by indigenous cultures from the Formative Period to A.D. 1533:

A. Axe: Made of copper, bronze, or gold. Generally flat with rounded head and attached to a handle. Average size is 15 cm. long x 10 cm. wide. Formative Cultures—Inca.

B. Chisel: Made of copper, bronze, silver, gold, or tumbaga. Long stem(50 cm.) terminates at short bulbous head (10 cm.). Formative Cultures—Inca.

C. Clamps/tweezers: Made of copper, bronze, silver, gold, or tumbaga. Short stem (5 cm.) attaches to thin, flat heads, sometimes decorated (10 cm.). Formative Cultures—Inca.

D. Knife (tumi): Made of copper, bronze, silver, gold, or tumbaga. Flat surface with trapezoidal or squared handle and ovaloid or half-moon blade. Often incised, embossed, or applique decoration at base. Average size is 50 cm. in height. Formative Cultures—Inca.

E. Crown: Made of gold or silver. Generally flat metal with animal, bird, or geometric designs. Average size is 14 cm. in diameter. Formative Cultures—Inca.

F. Diadem: Made of gold or silver. Generally flat with animal, bird, or geometric designs. Average size is 35 cm. long × 45 cm. wide. Formative Cultures—Inca.

G. Bracelet: Made of copper, bronze, silver, gold, or tumbaga. Usually tubular form. Average size is 11 cm. in diameter. Formative Cultures—Inca.

H. Collar: Made of copper, bronze, silver, gold, or tumbaga. Normally a thin (4 cm.) band without clasps. Sometimes contains beads, disks, or pendants. Formative Cultures—Inca.

I. Earring or ear plug: Made of copper, bronze, silver, gold, or tumbaga. Generally discoid, ring shape, or pendant. Often inlaid with semi-precious stones or shell. Average size is 4 cm. in diameter. Tiwanaku—Inca.

J. Necklace: Made of copper, silver, gold, or tumbaga. Normally a thin(4 cm.) band without clasps. Sometimes contains beads, disks, or pendants. Formative Cultures—Inca.

K. Nose plug (nariguera): Made of copper, silver, gold, or tumbaga. Either ring shaped (plain, thin band) or a circular band with applique. Average size is 3 cm. in diameter. Formative Cultures—Inca.

L. Belt: Made of copper, bronze, silver, gold, or tumbaga. Usually consists of joined disks or chain links. Average size is one meter in length. Formative Cultures—Inca.

M. Figurine: Made of copper, bronze, silver, gold, or tumbaga. Usually human or animal (camelid) shape. Often found in pairs. Range in size from miniatures (2 cm. in height) to small statuettes (50 cm. in height). Lauraques are small (3 cm. to 7 cm.) amulet-like figurines of brass shaped like humans. Formative Cultures—Inca.

N. Mask: Made of copper, bronze, silver, gold, or tumbaga. Usually hammered, unadorned metal plaque that is sometimes inlaid with semi-precious stone or shell. Motifs include felines and humans or combinations of the two. Average size is 30 square cm.

O. Pectoral: Made of copper, silver, gold, or tumbaga. Flat surface with squared base and curved edge. Often decorated with fine incised lines. Average size is 70 cm. in height. Formative Cultures—Inca.

P. Sheet/plaque: Thin, hammered sheets of copper, silver, gold, or tumbaga. Often incised or embossed. Size varies. Formative Cultures—Inca.

Q. Garment pin (tupu): Made of copper, bronze, silver, gold, or tumbaga. A large pin with a long shaft (15 cm.) that usually terminates with flat, discoid head (4 cm.) often embossed with design. Tiwanaku—Inca.

IV. Pre-Columbian Stone

Ceremonial, sumptuary, and funerary stone objects produced and used by indigenous cultures from the Archaic period to A.D. 1533:

A. Projectile point: Made of red, black, brown, or transparent obsidian, chert, basalt, or other semi-precious stone. Leaf-shape, with or without stem. Average size is 7 cm. long x 3 cm. wide. Formative Cultures-Inca, including Tropical Lowland Cultures. Locally known as Vizcachani style.

B. Axe: Made of red, black, brown or transparent obsidian, chert, basalt, or other semi-precious stone. Leaf-shape, or rectangular shaped head, with or without notches where handle is attached. Average size is 12 cm. long x 6 cm. wide. Formative Cultures—Inca, including Tropical Lowland Cultures.

C. Sword: Made of red, black, brown or transparent obsidian, chert, basalt, or other semi-precious stone. Oblong, leaf-shaped, with or without notches where handle is attached. Formative Cultures—Inca, including Tropical Lowland Cultures.

D. Bead: Made of lapis lazuli, sodalite, obsidian, quartz, malachite, green stone, or other semi-precious stone. Usually are globular with fine aperture; pendants are also known. Average size is 1 cm., although much larger (4 cm.) and much smaller (2 mm.) sizes are recognized. Formative Cultures—Inca.

E. Lip plug: Made of lapis lazuli, sodalite, obsidian, quartz, malachite, green stone, or other semi-precious stone. Normally of discoidal shape. Average size is 2.5 cm. Formative Cultures—Inca, including Tropical Lowland Cultures.

F. Idol/conopa/figurine: Small human or animal shaped statuettes of turquoise, alabaster, lapis lazuli, sodalite, obsidian, quartz, malachite, green stone, or other semi-precious stone. Exterior is finely polished. Often found in matching pairs. Animals are usually camelids. Average size is 5 cm. in height. Formative Cultures—Inca, including Tropical Lowland Cultures.

G. Drinking vessel (kero): These are vase-shaped beakers, about 15 cm. in height, made from grey andesite or basalt. They often exhibit a puma or jaguar face on the vessel exterior or other stylized geometric design. Tiwanaku—Inca.

H. Snuff tablet: These are shallow, rectangular trays approximately 20 cm. long x 5 cm. wide x 1 cm. in height. May be constructed of andesite, basalt, alabaster, or other semi-precious stone, or of wood. These small trays are often carved with intricate designs and inlaid with semi-precious stone and/or shell. Formative Cultures—Inca, including Tropical Lowland Cultures.

I. Sculpture

1. Tenon head: Made of sandstone, basalt, granite, volcanic tuff, or other stone. These are carved ashlar stone heads, normally in the shapes of masked humans, jaguars, and pumas that either serve as architectural wall embellishments at temples and religious shrines or are portions of free-standing monoliths (see also stelae, monolith). Small round heads average 50 square cm., while the heads of columnar stelae average one square meter. Formative Cultures—Inca.

2. Animal-shaped: Made of sandstone, basalt, granite, volcanic tuff, or other stone. These are carved statues of the head and neck portions of llamas and other animals. Because they are not supported by a base or pedestal, they are unable to free-stand. Average size is 2 meters in height. Mostly Formative Cultures.

3. Plaques (lapida): Made of sandstone, basalt, granite, limestone, volcanic tuff, or other stone. These are rectangular ashlar slabs, 52 cm. long x 39 cm. wide x 3.5 cm. thick that are sculpted on both faces with elaborate human, animal, and geometric designs. Mostly Wankarani, Chiripa, and Formative Cultures.

4. Stelae: Made of sandstone, granite, andesite, or other stone. Includes free-standing columnar figures, inscribed columns, and door jambs. These are typically engraved with masked figures and other personages. Between one and three meters in height. Formative Cultures—Inca.

5. Monolith: Free-standing columnar sandstone, granite, andesite, or other stone. Between one and three meters in height. Formative Cultures—Inca.

J. Rock art: Made of sandstone, basalt, granite, limestone, volcanic tuff or, other stone. These are portions of larger boulders or cave faces that have been chiseled off. They contain simple images, either painted, carved, or incised, of animals, humans, geometric, and abstract designs. Sizes range between hand-size and several square meters. Formative Cultures—Inca.

V. Pre-Columbian Shell Figurines

Ceremonial, sumptuary, and funerary shell figurines produced and used by indigenous cultures from the Formative period to A.D. 1533. Small human or animal shaped statuettes of spondylus, mother-of-pearl, and/or other shell. Exterior is finely polished. Often found in matching pairs. Animals are usually camelids. Average size is 5 cm. in height. Formative Cultures—Inca, including Tropical Lowland Cultures.

VI. Pre-Columbian Mummified Human Remains

Whole or partial mummified human remains, including modified skulls. May be wrapped in textiles. Individual limbs often contain bracelets and other precious metal and shell objects.

VII. Pre-Columbian Bone Objects

Ceremonial, sumptuary, and funerary bone objects produced and used by indigenous cultures from the Formative period to A.D. 1533:

A. Punch: Spike-like implement approximately 14 cm. long and 1 cm. wide that tapers to a pointed, sharp head. Formative Cultures—Inca, including Tropical Lowland Cultures.

B. Needle: Vary in size from 5 cm. to 15 cm. in length. Formative Cultures—Inca, including Tropical Lowland Cultures.

C. Hook: Semicircular implement of polished bone that often contains barb. Approximately 2 cm. in height. Formative Cultures—Inca, including Tropical Lowland Cultures.

D. Figurine: Usually human or animal (camelid) shape. Often found in matching pairs. Range in size from miniatures (2 cm. in height) to small statuettes (50 cm. in height). Formative Cultures—Inca.

E. Spindle: Long, spine-like object used in weaving to wind thread in conjunction with a spindle whorl. Appear as elongated needles with dull edges. Average size is 17 cm. long x 5 mm. wide. Formative Cultures—Inca.

F. Spindle whorl: Small globular, bead-shaped, or flat circular object that adds weight and balance to spindles used to wind thread. The whorl attaches to the spindle via an aperture in the whorl. Often engraved on the exterior with intricate designs. Bead size averages 2 square centimeters. Flat disks range from 3 cm. to 7 cm. in diameter. Formative Cultures—Inca.

G. Snuff tablet: These are shallow, rectangular trays approximately 20 cm. long x 5 cm. wide x 1 cm. in height. May be constructed of bone, stone, or wood. These small trays are often carved with intricate designs and inlaid with semi-precious stone and/or shell. Formative Cultures—Inca, including Tropical Lowland Cultures.

H. Inhaler tube: Small bones that have been hollowed, polished, and decorated on the exterior with engraved and polychrome painted designs. Average size is 8 cm. long x 3 cm. in diameter. Formative Cultures—Inca, including Tropical Lowland Cultures.

I. Amulet/talisman (tembeta): Can consist of a single bone engraved on the exterior with a design or a bead, amulet, or charm made from bone that has been polished, carved, and/or painted. Size ranges from 2 cm. to 40 cm. Formative Cultures—Inca, including Tropical Lowland Cultures.

J. Lip plug: Either ring shaped (plain, thin band) or disk shaped. Average size is 3 cm. in diameter. Formative Cultures—Inca, including Tropical Lowland Cultures.

K. Flute or panpipe (zampoña): Panpipes range between 20 cm. and 120 cm.; flutes range from 20 cm. to 120 cm. Formative Cultures—Inca, including Tropical Lowland Cultures.

VIII. Pre-Columbian Wood Objects

Ceremonial, sumptuary, and funerary wood objects produced and used by indigenous cultures from the Formative period to A.D. 1533:

A. Drinking vessel (kero): These are vase-shaped beakers, about 15 cm. in height. A puma or jaguar face is often modeled onto the vessel exterior and/or the wood is carved or engraved with a stylized geometric design. Tiwanaku—Inca.

B. Snuff tablet: Shallow, rectangular trays approximately 20 cm. long x 5 cm. wide x 1 cm. in height. May be constructed of wood, bone, or stone. These small trays are often carved with intricate designs and inlaid with semi-precious stone and/or shell. Formative Cultures—Inca, including Tropical Lowland Cultures.

C. Bowl or challador: Compartmented bowl carved from a single slab of wood, with or without handles. Carved or engraved decoration on the surface exterior. Size ranges from 9 cm. to 17 cm. in height.

D. Arrow shaft: Created from a solid piece of wood. Often tipped with gold spear. Size varies from 30 cm. to 3 meters long.

E. Necklace: A thin strip (4 cm.) without clasps. Sometimes contain beads, disks, seeds, or pendants. Formative Cultures—Inca.

F. Mask: These are created from a single slab of wood. Often carved in the shape of feline or human face, with slits for the eyes and mouth. Average size is 30 square cm. and 3 cm. thick. Formative Cultures—Inca, including Tropical Lowland Cultures.

G. Digging stick: These implements most often take the form of a central staff (one meter in height) to which an appendage is added. The central staff is often carved. The appendage may be secured to the staff with bands of precious metals such as gold. Inca Culture.

H. Spindle whorl: Small globular, bead-shaped, or flat circular object that adds weight and balance to spindles used to wind thread. The whorl attaches to the spindle via an aperture in the whorl. Often engraved on the exterior with intricate designs. Bead size averages 2 square centimeters. Flat disks range from 3 cm. to 7 cm. in diameter. Formative Cultures—Inca.

IX. Pre-Columbian Basketry

Ceremonial, sumptuary, and funerary basketry produced and used by indigenous cultures from the Formative Period to A.D. 1533:

A. Basket: Round, square, or rectangular containers with or without handles. May be constructed of reeds, vines, grasses, or other vegetal fibers. Sometimes construction is combined with cloth, animal skin, or wood. Size varies from 4 cm. to 1 meter in height. Formative Cultures—Inca, including Tropical Lowland Cultures.

B. Casket: Square or rectangular containers with lids and handles. May be constructed of reeds, vines, grasses, or other vegetal fibers. Sometimes construction is combined with cloth, animal skin, or wood. Size varies from 50 cm. to 1 meter in height. Formative Cultures—Inca, including Tropical Lowland Cultures.

C. Headdress: These are supports for featherwork worn on the head. Can be up to 60 cm. in length/height. Formative Cultures—Inca, including Tropical Lowland Cultures.

Ethnological Materials

Ethnological materials date from A.D. 1533 to 1900. Two broad categories are encompassed in the sections below. Sections I to VI describe artifacts that reflect Pre-Columbian traditions and are considered religious in nature or are critically linked to indigenous identity and ancestral use and/or manufacture. Section VII encompasses artifacts produced for use in Catholic religious observance. Some of these items may occur in archaeological contexts.

I. Colonial and Republican Masks (A.D. 1533-1900)

These masks are constructed of wood, leather or skins, silver, tin, cloth, glass beads, oil painted plaster, fur, feathers, or some combination of these materials, with the intent of exaggerating the facial features, particularly the eyes and mouth, of the personage or animal in the dance. Common themes include the devil with horns, old men (Awki), African faces (Moreno), blonde haired/blue eyed men with bullet holes in their foreheads (Chunchus), angels, heroines (China Supay), and animals. Size varies according to the mask. Some are as small as 40 cm. or as large as 170 cm.

All masks produced until 1900 that are associated with the Christian or indigenous dance rituals of the Colonial and Republican Periods are included. These include but are not limited to masks of the following dances: Dance of La Diablada; Dance of La Morenada; Dance of Kullawada; Dance of La Llamerada; Dance of the Chunchus; Chutas Dance; Kusillos Dance; Chiriguano Dance; Dance of the Inca; Dance of the Chunchos; Dance of the Achus; Dance of St. Ignatius of Moxos; Dance of the Little Angels; Moors and Christians Dance; Dance of the Sun and the Moon; Dance of the Little Bull; Dance of the Jucumari; Chiriguano Ritual; Dance of the Auqui Auqui; Dancer Ritual; Dance of the Misti'l Siku; Dance of the Little Bull; Dance of the Tundiquis; Dance of the Paqochis.

II. Colonial and Republican Wood Objects (A.D. 1533-1900)

Objects in wood that relate to indigenous ceremonial activities. These include:

A. Drinking vessels (kero, keru, q'ero): These are vase-shaped beakers, about 15 cm. in height. During the Colonial Period, these wooden cups were polychrome painted with elaborate scenes and designs.

B. Scepter (Bastón de mando): Wooden staff made of palm wood and encased in silver with semi-precious stones. Size varies from 45-120 cm.

C. Ceremonial vessels (challador cups/vases): The interiors of these vessels are segmented into compartments. Size ranges between 10-35 cm.

D. Bow: Constructed with wood, feathers, and other animal and vegetal fibers. Used for ritual purposes by the Araona Culture of the Tropical Lowlands. Size ranges from 120 cm. to 210 cm.

E. Tobacco pipe: Straight tubular shape, without a bowl, used by Tropical Lowland Cultures in religious ceremonies. Often, an X is painted as a clan symbol on one end of the tube. Size ranges from 10 cm. to 15 cm.

III. Colonial and Republican Musical Instruments (A.D. 1533-1900)

Musical instruments created for and used in indigenous ceremonies. These include:

A. Charango: Stringed instrument, similar to a mandolin or ukelele, manufactured of wood. The bowl of the instrument is sometimes decorated with animal pelts. About 50 cm. in length.

B. Drum (Sancuti bombo, Wankara bombo, muyu muyu, q'aras): Vary in size and shape. Generally the box is cylindrical and made of wood or tree bark with skins stretched over the frame to form the heads. Size ranges from 30 cm. to 60 cm.

C. Flutes

1. Flute (rollano, chaxes, lawatos): Made of hollowed wood with leather strips. These flutes are characterized by six holes. Size ranges from 40 cm. to 100 cm.

2. Flute (chutu pinquillo): Made of uncut flamingo bone with six holes. Size ranges from 25 cm. to 35 cm.

3. Flute (pifano): Made of bato bone. Size varies.

4. Flute (jantarco, sicus): Made of wood with flower designs engraved on the surface. Diamond shaped in cross-section. Size varies from 10 cm. to 35 cm.

D. Harp: Stringed instrument made of wood and animal skin. It contains 30 strings. Size ranges from 80 cm. to 150 cm.

E. Mandolin: Constructed of wood and often inlaid with shell. Size varies.

F. Whistle (ocarina, willusco): Small, hand-held whistle made of wood, 7 cm. Willusco is small, disk shaped whistle with design engraved on surface, 3 cm. to 7 cm.

G. Panpipe (bajón): Made of leaves formed into tubes, attached to each other with cotton thread. Characterized by 10 tubes. Size ranges from 120 cm. to 180 cm.

H. Violin (tacuara): Made of wood. Size ranges from 40 cm. to 50 cm.

IV. Colonial and Republican Textiles (A.D. 1533-1900)

Textiles woven by indigenous peoples for ceremonial or ritual use:

A. Indigenous Highland Traditions:

1. Poncho (balandran, ponchito, choni, khawa, challapata): Square or rectangular overgarment worn by men usually consisting of two pieces of hand-woven cloth sewn together, with a slit in the center for the head. May be dyed with natural or synthetic dyes in all colors. Plain or striped. Often woven from alpaca or other camelid fibers. Some with tassels. Average size is 80 cm. × 100 cm.

2. Dress (almilla/urku/aksu): The almilla is the dress adopted by indigenous women in the sixteenth century tailored from hand-woven wool cloth (bayeta). It consists of a gathered skirt attached to a fitted bodice. The urku is a pleated or gathered skirt characterized by a bold stripe pattern arranged horizontally. The aksu is a women's ceremonial dress woven from camelid fiber and constructed from a rectangular, two-piece cloth that is wrapped around the body and tied at the waist. May be dyed with natural or synthetic dyes in all colors. Average size is one square meter.

3. Mantle/shawl (axsu, tsoc urjcu, tscoc irs, medio axsu, llacota, isallo, awayo, llixlla, iscayo, phullu, talo unkhuña, ñañaqa): Square or rectangular garment composed of two pieces of cloth sewn together. May be dyed with natural or synthetic dyes in all colors. Plain or striped. Often woven from alpaca or other camelid fibers. Designs are typically stripes arranged across the cloth in a vertical or horizontal pattern or confined to the margins of one side of the garment. Average size is one square meter.

4. Tunic (unku, ira, ccahua): Man's ceremonial vestment constructed from one piece of cloth which is folded in half and sewn up the sides, leaving openings for the arms at the top and an opening in the middle for the head. Designs are typically found in the hip, sleeve, and neck areas, but there are more elaborate examples where stripes cover the entire garment, some with silver thread. May be dyed with natural or synthetic dyes in all colors. Usually made from camelid wool, especially alpaca. Average size is 135 cm. × 92 cm.

5. Bag (chuspa, alforja, kapachos, huayacas): Carried by both men and women; woven from cotton or camelid fibers in a variety of widths, lengths, and colors. Found in either a solid color or simple polychrome stripe pattern arrangement with geometric motifs. These bags are usually square (20 cm.) or rectangular with a woven carrying strap. They often contain small pockets on the pouch exterior and are decorated with tassels.

6. Belt (w'aka, tsayi, chumpi, wincha, t'isnu): Worn by both men and women; woven from cotton or camelid fibers in a variety of widths, lengths, and colors. Found in either a solid color or simple polychrome geometric design.

7. Scarf/muffler: Worn by both men and women; woven from camelid fibers or sheep's wool with natural dyes in a variety of widths, lengths, and colors. Consists of one rectangular piece. Approximately 50 cm. in length.

8. Hat: Caps (10 square cm.) worn by men and nañacas worn by women that range in size between 10 square cm. and one square meter. Both are woven from camelid fibers and silk, and dyed with natural pigments in red, blue, green, orange, yellow, tan, brown, black, purple, or a combination of colors. When present, designs are geometric or depict highly stylized animals such as llama and other camelids.

9. Sling (wichi wichis, qorawas): Rectangular band of cloth (25 cm. × 10 cm.); long ends taper to a loop where ropes are attached to either side.

10. Cloth: Square, rectangular, or fragmentary cloth woven from fine camelid fibers, silk, and/or silver and gold threads, or constructed from soft tree bark or other natural fiber, and dyed with natural pigments in red, blue, green, orange, yellow, tan, brown, black, purple, or combination of colors. Some examples are striped in a vertical or horizontal pattern. Average size ranges between six square centimeters and six square meters. Cloth may be fragmentary, folded flat, or bundled (q'epi) for use in ritual ceremonies. Woman's ritual cloth, called icuña, tari, or ñañaca, is also included in this category.

B. Indigenous Lowland Traditions (A.D. 1533-1900):

1. Long shirt (camijeta/ tipois): Tunic-like vestment made of cotton or vegetal material such as bark. Tassels often attached to lower edge. Size is 133 cm. long x 71 cm. wide.

2. Woman's Two Piece Vestment (tsotomo and noca): Long, straight skirt (noca) and separate bodice (tsotomo) made of cotton or vegetal material such as bark. Noca size is 50 cm. long × 40 cm. wide; Tsotomo size is 11.5 cm. deep x 35 cm. long.

3. Cloth: Square, rectangular, or fragmentary cloth woven from cotton, or constructed from soft tree bark or other natural fiber, and dyed with natural pigments in red, blue, green, orange, yellow, tan, brown, black, purple, or combination of colors. Some examples are striped in a vertical or horizontal pattern. Average size ranges between six square centimeters and six square meters. Cloth may be fragmentary, folded flat, or bundled (q'epi) for use in ritual ceremonies.

V. Colonial and Republican Featherwork (A.D. 1533-1900)

Featherwork produced for ceremonial use consists of colorful, tropical feathers attached to leather, cloth, wood, or other material, such as basketry, to create adornments worn on the wrists, ankles, neck, waist, back, and head, including the lips and ears. Most typically found are headdresses, which may consist of small, modest crowns (30 cm. average) or large, towering bonnets of Suri feathers (80 cm.). This category also includes feather-covered ritual belts and textiles (35-70 cm.), fans (250 cm. long), staves or batons (145-250 cm.), basketry supports, and healer's amulets or photadi (80-250 cm.).

VI. Colonial and Republican Ceramics (A.D. 1533-1900)

A. Ceremonial drinking vessels (recipiente, andavete, trampavaso): Containers and serving vessels used in the ceremonial context of chicha drinking. In post-Columbian times, these are hard ceramics with glassy surfaces resulting from the application of a mineral glaze. May be brown, green, blue, red, or any combination of colors. Vary in size and shape from handled jars, pitchers, cups, and vases, to animal-shapes (bull, tiger, llama, hoof).

B. Ritual smoking pipes: Tubular shape without tobacco bowl. The average size is from 10 cm. to 15 cm.

VII. Colonial and Republican Religious Art (A.D. 1533-1900)

A. Statues: Made of wood, maguey, gesso, silver, gold, bronze, alabaster, or other stone and often decorated with gilt paint. Typical statuary for this period includes depictions of patron saints (santos/santas), angels, Christ, the Virgin Mary, the apostles, and the Holy Family. Gold and silver crowns and other adornments in precious metals and precious stone are often found on these statues. Some are dressed with brocade and tapestry cloth made from gold and silver threads. Some are holding objects such as swords. Size varies from 30 cm. to two meters.

B. Crucifixes: Made of wood, maguey, alabaster, silver, gold, bronze, brass. Size varies from 5 cm. to 200 cm.

C. Oil paintings: Include depictions of patron saints (santos/santas), angels, Christ, the Virgin Mary, the apostles, and the Holy Family on wood, metal, canvas (lienzo), and other cloth. With or without frame. The archangel is a central theme. Oil painting is found on objects as small as reliquaries (3 cm.), mid-sized canvas (one square meter), or wall-sized renditions.

D. Reliquaries: Include painted and engraved depictions of patron saints (santos/santas), angels, Christ, the Virgin Mary, the apostles, and the Holy Family primarily on wood, ceramic, and metal such as silver. Bolivian reliquaries are essentially small lockets and do not always contain relics. Size ranges from 3 cm. to 25 cm.

E. Trunks/coffers (petaca): Made of leather and gilded wood or of silver. These small boxes (30 cm. length) or large trunks (1.5 meters in length) held altar objects, such as chalices and holy oil, during transport.

F. Retablo: Made of wood and precious metals such as gold or silver. These are altars or architectural wall facades behind existing altars that contain niches and a tabernacle. Often disassembled in pieces. May be as large as 20 meters high x 7 meters wide; portions vary—a niche may be one square meter. Small, self-contained units that appear as boxes with hinged doors are as small as 40 cm. in height. Miniatures average 5 cm. in height.

G. Altar pieces: Altars and their components (for example, frontal, grates, sacristy) made of gilded wood, gold, or silver. Often decorated in repousse. Average size is 1.6 meters x 1.2 meters.

H. Altar objects: These include chalices, monstrances/ostensoria, cruets, candelabras, lecterns, incense burners, hand bells typically made of gold and silver and decorated with precious stones, shell such as pearl, or other adornments. Size varies according to object. This category also includes ceramic, metal, and wooden challadores and ceremonial drinking cups.

I. Church furniture: Made of wood, silver gold, stone, brass, or bronze. Includes carved picture frames, confessionals, pulpits, pedestals, litters, choir stalls, chancels, banisters, lectern, saint's flags, and church bells and chimes. Size varies according to object.

J. Crowns and radiations: Made of silver and gold, these objects are found alone or in conjunction with religious statuary depicting the Virgin and Jesus. Size varies from 10 cm. to 30 cm.

K. Garment pin (tupu/prendedor): Made of copper, bronze, brass, silver, gold, or tumbaga. A large pin with a long shaft (15 cm.) that usually terminates with flat, discoid head (4 cm.), often embossed with design. Some heads are inlaid with semi-precious stone.

L. Liturgical vestments: Garments worn by the priest and/or other religious dignitaries made of fine cotton, silk, and gold and silver thread. This category includes the chasuble, dalmatic, alb, stole, girdle, maniple, rochet, musette, mitre, and bonnet. Size varies according to garment.

Inapplicability of Notice and Delayed Effective Date

Because the amendments to the Customs Regulations contained in this document merely remove reference to expired import restrictions and impose import restrictions on the above-listed cultural property of Bolivia in response to a bilateral agreement entered into in furtherance of a foreign affairs function of the United States, pursuant to the Administrative Procedure Act (5 U.S.C. 553(a)(1)), no notice of proposed rulemaking or public procedure is necessary and a delayed effective date is not required.

Regulatory Flexibility Act

Because no notice of proposed rulemaking is required, the provisions of the Regulatory Flexibility Act (5 U.S.C. 601 et seq.) do not apply. Accordingly, this final rule is not subject to the regulatory analysis or other requirements of 5 U.S.C. 603 and 604.

Executive Order 12866

This amendment does not meet the criteria of a “significant regulatory action” as described in E.O. 12866.

Drafting Information

The principal author of this document was Bill Conrad, Regulations Branch, Office of Regulations and Rulings, U.S. Customs Service. However, personnel from other offices participated in its development.

List of Subjects in 19 CFR Part 12

Customs duties and inspections, Imports, Cultural property.

Amendment to the Regulations

Accordingly, Part 12 of the Customs Regulations (19 CFR Part 12) is amended as set forth below:

PART 12—[AMENDED]

1. The general authority and specific authority citations for Part 12, in part, continue to read as follows:

Authority: 5 U.S.C. 301, 19 U.S.C. 66, 1202 (General Note 22, Harmonized Tariff Schedule of the United States (HTSUS)), 1624;

* * * * *

Sections 12.104 through 12.104i also issued under 19 U.S.C. 2612;

* * * * *

2. In § 12.104g, paragraph (a), the list of agreements imposing import restrictions on described articles of cultural property of State Parties, is amended by adding Bolivia in appropriate alphabetical order, as follows, and paragraph (b), the list of emergency actions imposing import restrictions, is amended by removing the entry for “Bolivia”:

§ 12.104g Specific items or categories designated by agreements or emergency actions.

(2) * * *

State party | Cultural property | T.D. No.
Bolivia | Archaeological and Ethnological Material from Bolivia | T.D. 01-86
* * * * * * *

* * * * *

Dated: December 4, 2001.
Robert C. Bonner,
Commissioner of Customs.
Timothy E. Skud,
Acting Deputy Assistant Secretary of the Treasury.

[FR Doc. 01-30417 Filed 12-5-01; 10:36 am]

BILLING CODE 4820-02-P